FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 011550-019.

Agreement Name: ABC Discussion Agreement.

Parties: Crowley Caribbean Services LLC; King Ocean Services Limited, Inc. and Seaboard Marine Ltd.

Filing Party: Wayne Rohde; Cozen O'Connor.

Synopsis: The amendment adds Venezuela to the geographic scope of the Agreement.

Proposed Effective Date: 9/28/2019.

Location: https://www2.fmc.gov/FMC.Agreements.Web/Public/AgreementHistory/883.

Agreement No.: 201315.

Agreement Name: NYSA-ILA Assessment Agreement.

Parties: New York Shipping Association and International Longshoremen's Association, AFL-CIO.

Filing Party: Richard Ciampi; the Lambos Firm, LLP and Andre Mazzola; Marrinan & Mazzola Mardon P.C.

Synopsis: The Agreement consolidates prior amendments into a single assessment agreement.

Proposed Effective Date: 8/14/2019.

Location: https://www2.fmc.gov/FMC.Agreements.Web/Public/AgreementHistory/22427.

Dated: August 15, 2019.
Rachel E. Dickon,
Secretary.

[FR Doc. 2019-18025 Filed 8-20-19; 8:45 am]

BILLING CODE 6731-AA-P